DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under Section 250(b)(1) of Subchapter D, Chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of Section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than May 28, 2002.

Also, interested persons are invited to submit written comments regarding the subject matter of the petitions to the Director of DTAA at the address shown below not later than May 28, 2002.

Petitions filed with the Governors are available for inspection at the Office of the Director, DTAA, ETA, DOL, Room C-5311, 200 Constitution Avenue, NW., Washington, DC 20210.

Signed at Washington, DC this 29th day of April 2002.
Edward A. Tomchick,
Director, Division of Trade Adjustment Assistance.

Appendix
Subject firm | Location | Date Received at governor's office | Petition No. | Articles produced
Biljo, Inc. (Co.) | Dublin, GA | 04/22/2002 | NAFTA-6,099 | Men's and boy's slacks.
Pacific Crest Lumber (Co.) | Winlock, WA | 04/15/2002 | NAFTA-6,100 | Wood.
Mount Vernon Mills (Co.) | Alto, GA | 04/19/2002 | NAFTA-6,101 | Yarn.
Harris Welco—J.W. Harris (Co.) | Kings Mountain, NC | 04/22/2002 | NAFTA-6,102 | Plastic lens.
Bombardier Aerospace (Wkrs.) | Wichita, KS | 04/16/2002 | NAFTA-6,103 | Engineering and assemblies.
International Truck and Engine (UAW) | Springfield, OH | 04/12/2002 | NAFTA-6,104 | Trucks and trucks chassis.
Warnaco (Co.) | Abeville, SC | 04/16/2002 | NAFTA-6,105 | Jeanswear.
Spiegel Group TeleServices (SGTS) (Wkrs.) | Wichita, KY | 04/17/2002 | NAFTA-6,106 | Call center.
Modine Manufacturing (Wkrs.) | Emporia, KY | 01/16/2002 | NAFTA-6,107 | Motor vehicle radiators.
Peck Manufacturing (Co.) | Warronton, NC | 04/18/2002 | NAFTA-6,108 | Cotton yarn.
GretagMacBeth (Wkrs.) | New Windsor, NY | 04/18/2002 | NAFTA-6,109 | Software testing.
Newell Manufacturing (UAW/C) | Lowell, MI | 04/18/2002 | NAFTA-6,110 | Metal stampings.
International Paper (IBEW) | Oswego, NY | 03/11/2002 | NAFTA-6,111 | Linerboard and medium.
Ivaco Steel Processing (USWA) | Towawanda, NY | 10/26/2001 | NAFTA-6,112 | Steel rod.
Crossroad Knitting (Co.) | Claudville, VA | 04/18/2002 | NAFTA-6,113 | Socks.
Wellman, Inc. (Co.) | Fayetteville, NC | 04/18/2002 | NAFTA-6,114 | Polyester filament (yarn).
B.F. Goodrich (IAM) | Palmyra, NY | 10/09/2001 | NAFTA-6,115 | Seals, rubber good and expansion joints.
Signal Transformer (Co.) | Inwood, NY | 11/16/2001 | NAFTA-6,116 | Power transformers.
Texf Industries (Co.) | New York, NY | 10/31/2001 | NAFTA-6,117 | Apparel fabric.
Benchmark (Wkrs.) | Cheektowaga, NY | 12/21/2001 | NAFTA-6,118 | Ceramic thermal couple sleeve.
American Fast Print Limited (Wkrs.) | Spartanbury, SC | 04/18/2002 | NAFTA-6,119 | Textiles.
Aerus LLC—Electronlux (Wkrs.) | Bristol, VA | 04/08/2002 | NAFTA-6,120 | Floor care products.
Acorn Products (Wkrs.) | Lewiston, ME | 04/17/2002 | NAFTA-6,121 | Slippers, socks, footwear.
Stream International—Solectron (Co.) | Dallas, TX | 04/12/2002 | NAFTA-6,122 | Technical services for computer mfg.
Starkey Labs (Wkrs.) | Glencoe, MN | 04/16/2002 | NAFTA-6,123 | Hearing aids.
National Service Industries—Holophane (Wkrs.) | Springfield, OH | 03/28/2002 | NAFTA-6,124 | Foundries aluminum.
Wabach Technologies—Optek Sensor Group (Co.) | Huntington, IN | 04/15/2002 | NAFTA-6,125 | Custom electrical actuators, solenoids.
Charm House—Furnimex Prod. U.S.A. (Wkrs.) | Plano, TX | 04/22/2002 | NAFTA-6,126 | Dust ruffles, decor pillows, etc.
Knight Textile—Knight Industries (Co.) | Saluda, SC | 04/22/2002 | NAFTA-6,127 | Ladies sportswear.
Deeter's Tool and Mfg. (Wkrs.) | Erie, PA | 04/22/2002 | NAFTA-6,128 | Injection molding.
Bell Sponging (UNITE) | Allentown, PA | 04/23/2002 | NAFTA-6,129 | Examination and sponging of fabric.
Corning—Photonic Technologies (Wkrs.) | West Henrietta, NY | 11/21/2002 | NAFTA-6,130 | Couplers.
CimWorks (Wkrs.) | Kirkland, WA | 04/23/2002 | NAFTA-6,131 | Software and hardware.
Midway Machine and Tool (Wkrs.) | Wilkes-Barre, PA | 04/23/2002 | NAFTA-6,132 | Specialized parts and equipment.
Dekko Engineering (Co.) | Maintowoc, WI | 04/23/2002 | NAFTA-6,133 | Wiring harness.
Keystone Thermistor (Co.) | Mt. Jewett, PA | 04/23/2002 | NAFTA-6,134 | Thermistors control devices.
Independent Tool and Mfg. (Wkrs.) | Meadville, PA | 04/23/2002 | NAFTA-6,135 | Molds, dies, production machining.
International Utility Structures (Co.) | Batesville, AR | 04/22/2002 | NAFTA-6,136 | Poles.

[FR Doc. 02-12381 Filed 5-16-02; 8:45 am]

BILLING CODE 4510-30-M